DEPARTMENT OF ENERGY

Federal Energy Regulatory Commission

[Project No. 175-032]

Pacific Gas and Electric Company; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 175-032.

c. Date Filed: April 18, 2024.

d. Applicant: Pacific Gas and Electric Company (PG&E).

e. Name of Project: Balch Hydroelectric Project.

f. Location: On the North Fork Kings River in Fresno County, California. The project occupies 506.28 acres of Federal land managed by the U.S. Forest Service.

g. Filed Pursuant to: Federal Power Act, 16 U.S.C. 791(a)-825(r).

h. Applicant Contact: Dave Gabbard, Vice President, Power Generation, Pacific Gas and Electric Company, 300 Lakeside Drive, Oakland, California 94612; telephone at (620) 207-9705; email at david.gabbard@pge.com.

i. FERC Contact: Benjamin Mann, Project Coordinator, West Branch, Division of Hydropower Licensing; telephone at (202) 502-8127; email at benjamin.mann@ferc.gov.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 17, 2024.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. All filings must clearly identify the project name and docket number on the first page: Balch Hydroelectric Project (P-175-032).

m. The application is not ready for environmental analysis at this time.

n. Project Description: The Balch Hydroelectric Project (project) consists of the following facilities: (1) a 135-foot-high, 396-foot-long diversion dam with a crest elevation of 4,098 feet that includes a 364-foot-long spillway and is located on the North Fork Kings River 9.9 miles upstream of the confluence with Kings River; (2) the 35-acre Black Rock Reservoir with a usable storage capacity of 1,260 acre-feet at a normal water surface elevation of 4,097 feet; (3) an 11-foot-high, concrete tunnel intake; (4) a water conveyance system consisting of: (a) a 19,336-foot-long tunnel with a maximum hydraulic capacity of 760 cubic feet per second (cfs) that includes the 308-foot-long Black Rock Adit, the 350-foot-long Weir Creek Adit, an unlined surge chamber, and two sluice channels; (5) a 4,905.6-foot-long penstock leading to the Balch No. 1 Powerhouse and a 4,933.3-foot-long penstock leading to the Balch No. 2 Powerhouse; (6) the 65.5-foot-long, 80.5-foot-wide Balch No. 1 Powerhouse housing one turbine-generator unit with an authorized installed capacity of 31.02 megawatts (MW) and a maximum hydraulic capacity of 213 cfs; (7) the 149-foot-long, 84-foot-wide Balch No. 2 Powerhouse housing two turbine-generator units with a total authorized installed capacity of 105 MW and a maximum hydraulic capacity of 315 cfs; (8) a 165-foot-high, 238-foot-long afterbay dam with a crest elevation of 1,704 feet that includes a 238-foot-long spillway; (9) a 7-acre afterbay with a usable storage capacity of 135 acre-feet; (10) project roads and trails; (11) recreation facilities; (12) a 22-mile-long, 115-kilovolt (kV) transmission line connecting the project with the grid at Piedra Junction; (13) the 76-acre Balch Camp, which is the project operating headquarters and includes personnel housing; (14) a 6.2-mile-line, 12-kV distribution line connecting Balch Camp with the project's diversion dam; and (15) appurtenant facilities.

The Balch Project is located downstream of PG&E's Haas-Kings River Hydroelectric Project No. 1988 and Helms Pumped Storage Project No. 2735, which use the same reservoirs (Courtright Lake and Lake Wilshon) for operation. The project is operated as a peaking facility to generate power that is released from upstream storage to meet power demand and for irrigation purposes. Project operation is coordinated with Project No. 1988, whose releases from Lake Wilshon largely control inflow to Black Rock Reservoir; however, spill fluctuations at the project are possible at times when inflow exceeds powerhouse capacity and during powerhouse outages.

The current license requires PG&E to maintain the following continuous minimum flows in the North Kings River: (1) during normal water years: (a) from June 1 through November 31, 5 cfs from Black Rock Reservoir, 15 cfs from Balch Afterbay, and 30 cfs of total river flow; and (b) from December 1 through May 31, 2.5 cfs from Black Rock Reservoir, 10 cfs from Balch Afterbay, and 30 cfs of total river flow; (2) during dry water years, as defined by the California Department of Water Resources, year-round flows of 2.5 cfs from Black Rock Reservoir, 10 cfs from Balch Afterbay, and 20 cfs of total river flow.

PG&E proposes to continue operating the project in a manner that is consistent with current operation, with the exception of the following new proposed measures: (1) minimum flows and water year types, (2) a recreation plan, (3) a biological resources management plan, (4) a historic properties management plan, (5) low-level operations, (6) flood period operations, (7) a hazardous substance plan, (8) a gaging plan, (9) visual resources management, (10) a fire management and response plan, and (11) a transportation system management plan.

o. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-175). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

q. Procedural Schedule: The application will be processed according to the following preliminary schedule. Revisions to the schedule will be made as appropriate.

Issue Deficiency Letter and Request Additional Information—June 2024

Issue Scoping Document 1 for comments—August 2024

Request Additional Information (if necessary)—September 2024

Issue Acceptance Letter—November 2024

Issue Scoping Document 2 (if necessary)—November 2024

Issue Notice of Ready for Environmental Analysis—November 2024

r. Final amendments to the application must be filed with the Commission no later than 30 days from the issuance date of the notice of ready for environmental analysis.

Dated: May 2, 2024.
Debbie-Anne A. Reese,
Acting Secretary.

[FR Doc. 2024-10041 Filed 5-7-24; 8:45 am]

BILLING CODE 6717-01-P